DEPARTMENT OF DEFENSE

Office of the Secretary

Meeting of the Defense Advisory Committee on Women in the Services (DACOWITS)

AGENCY: Department of Defense.

ACTION: Notice.

SUMMARY: The Department of Defense is publishing this notice to announce that the following Federal Advisory Committee meeting of the Defense Advisory Committee on Women in the Services (DACOWITS) will take place. This meeting is open to the public.

DATES: Tuesday, June 14, 2016, from 8:30 a.m. to 12:30 p.m.; Wednesday, June 15, 2016, from 8:30 a.m. to 12:00 p.m.

ADDRESSES: Sheraton Pentagon City, 900 South Orme Street, Arlington, VA 22204.

FOR FURTHER INFORMATION CONTACT: Mr. Robert Bowling or DACOWITS Staff at 4800 Mark Center Drive, Suite 04J25-01, Alexandria, Virginia 22350-9000; robert.d.bowling1.civ@mail.mil, telephone (703) 697-2122, fax (703) 614-6233. Any updates to the agenda or any additional information can be found at http://dacowits.defense.gov/.

SUPPLEMENTARY INFORMATION: Pursuant to the Federal Advisory Committee Act of 1972 (5 U.S.C. Appendix, as amended), the Government in the Sunshine Act of 1976 (5 U.S.C. 552b), and Section 10(a), Public Law 92-463, as amended, notice is hereby given of a forthcoming meeting of the DACOWITS. The purpose of the meeting is for the Committee to receive briefings and updates relating to their current work. The Committee will start the meeting with the Designated Federal Officer (DFO) giving a status update on the Committee's requests for information. There will then be a panel with the Services to brief their Gender Integration Implementation Plans. This will be followed by a panel discussion with the Services on their Marketing and Accession Plans and then a panel on the Services' Strategic Communication Plans. There will be a public comment period at the end of day one. On the second day, the Committee will receive a briefing from DoD on the Gender Integration Implementation Oversight Plan and a briefing from Marine Corps on the Gender Integration Implementation Plan for Recruit Training. Additionally, DoD SAPRO will provide a briefing on their Retaliation Strategy. Insight Policy Research will provide an overview briefing on the 2016 Focus Group Findings. Lastly, the Committee will provide an update on their study topics.

Pursuant to 41 CFR 102-3.140, and section 10(a)(3) of the Federal Advisory Committee Act of 1972, interested persons may submit a written statement for consideration by the DACOWITS. Individuals submitting a written statement must submit their statement to the point of contact listed at the address in FOR FURTHER INFORMATION CONTACT no later than 5:00 p.m., Tuesday, June 7, 2016. If a written statement is not received by Tuesday, June 7, 2016, prior to the meeting, which is the subject of this notice, then it may not be provided to or considered by the DACOWITS until its next open meeting. The DFO will review all timely submissions with the DACOWITS Chair and ensure they are provided to the members of the Committee. If members of the public are interested in making an oral statement, a written statement should be submitted. After reviewing the written comments, the Chair and the DFO will determine who of the requesting persons will be able to make an oral presentation of their issue during an open portion of this meeting or at a future meeting. Pursuant to 41 CFR 102-3.140(d), determination of who will be making an oral presentation is at the sole discretion of the Committee Chair and the DFO, and will depend on time available and if the topics are relevant to the Committee's activities. Five minutes will be allotted to persons desiring to make an oral presentation. Oral presentations by members of the public will be permitted only on Tuesday, June 14, 2016 from 12:00 p.m. to 12:30 p.m. in front of the full Committee. The number of oral presentations to be made will depend on the number of requests received from members of the public. Pursuant to 5 U.S.C. 552b and 41 CFR 102-3.140 through 102-3.165, this meeting is open to the public, subject to the availability of space.

Meeting Agenda

Tuesday, June 14, 2016, From 8:30 a.m. to 12:30 p.m.

—Welcome, Introductions, Announcements

—Request for Information Status Update

—Panel Discussion—Services Gender Integration Implementation Plans

—Panel Discussion—Services Marketing and Accession Plans

—Panel Discussion—Services Strategic Communication Plans

—Public Comment Period

Wednesday, June 15, 2016, From 8:30 a.m. to 12:00 p.m.

—Welcome and Announcements

—Briefing—DoD Gender Integration Implementation Oversight Plan

—Briefing—USMC Gender Integration Implementation Plan for Recruit Training

—Briefing—DoD SAPRO Retaliation Strategy

—Briefing—Overview of 2016 Focus Group Findings

—Committee 2016 Study Topic Update

Dated: May 23, 2016.
Aaron Siegel,
Alternate OSD Federal Register Liaison Officer, Department of Defense.

[FR Doc. 2016-12432 Filed 5-25-16; 8:45 am]

BILLING CODE 5001-06-P